DEPARTMENT OF THE TREASURY

Submission for OMB Review; Comment Request

October 18, 2012.

The Department of the Treasury will submit the following information collection request to the Office of Management and Budget (OMB) for review and clearance in accordance with the Paperwork Reduction Act of 1995, Public Law 104-13, on or after the date of publication of this notice.

DATES: Comments should be received on or before November 23, 2012 to be assured of consideration.

ADDRESSES: Send comments regarding the burden estimate, or any other aspect of the information collection, including suggestion for reducing the burden to the (1) Office of Information and Regulatory Affairs, Office of Management and Budget, Attention: Desk Officer for Treasury, New Executive Office Building, Room 10235, Washington, DC 20503, or email at OIRA_Submission@OMB.EOP.GOV and the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Financial Management Service (FMS)

OMB Number: 1510-0048.

Type of Review: Revision of a currently approved collection.

Title: Minority Bank Deposit Program (MBDP) Certification Form for Admission.

Form: FMS 3144.

Abstract: A financial institution who wants to participate in the MBDP must complete this form. The approved application certifies the institution as minority and is admitted into the program.

Affected Public: Private Sector: Businesses or other for-profits.

Estimated Total Burden Hours: 75.

Robert Dahl,
Treasury PRA Clearance Officer.

[FR Doc. 2012-26118 Filed 10-23-12; 8:45 am]

BILLING CODE 4810-35-P